DEPARTMENT OF AGRICULTURE

Rural Utilities Service

Arkansas Electric Cooperative Corporation; Notice of Finding of No Significant Impact

AGENCY: Rural Utilities Service, USDA.

ACTION: Notice of finding of no significant impact.

SUMMARY: Notice is hereby given that the Rural Utilities Service (RUS) has made a finding of no significant impact with respect to a request for financing assistance by Arkansas Electric Cooperative Corporation to finance the repowering of an existing electric generating station in Franklin County, Arkansas.

FOR FURTHER INFORMATION CONTACT: Bob Quigel, Environmental Protection Specialist, Engineering and Environmental Staff, RUS, Stop 1571, 1400 Independence Avenue, SW., Washington, DC 20250-1571, telephone (202) 720-0468, e-mail at bquigel@rus.usda.gov.

SUPPLEMENTARY INFORMATION: Arkansas Electric Cooperative Corporation proposes to remove the existing boiler and stack at its Fitzhugh Generating Station. (The station is located on the east side of the Arkansas River southeast of Ozark, Arkansas, at river mile 255.9.) The existing steam turbine, generator, and other steam cycle related equipment will remain. A new combustion turbine and electric generator will be added. The exhaust gas from the turbine will be connected to a heat recovery steam generator which will be connected to the existing steam turbine. There will be a 90-foot bypass stack between the combustion turbine and the heat recovery steam generator. This will allow for quick start-up of the plant and for operation of the new combustion turbine and generator in simple-cycle mode. The heat recovery steam generator will have a 110-foot stack. These two stacks will replace the existing 200-foot stack at the plant. The modification will also include the addition of a 25-foot tall, three-module cooling tower and step-up transformers. The repowered generation station will be fired with natural gas with fuel oil backup.

The repowering will increase the output of the plant from 59 megawatts to 170.6 megawatts (based on summer rating) and the plant's thermal efficiency will be increased. The repowered plant will have less air emissions than the existing plant.

Copies of the Finding of No Significant Impact are available from RUS at the address provided herein or from Mr. Curtis Warner of Arkansas Electric Cooperative Corporation, P.O. Box 194208, Little Rock, Arkansas. Mr. Warner's telephone number is (501) 570-2462.

Dated: June 8, 2001.
Blaine D. Stockton,
Assistant Administrator, Electric Program.

[FR Doc. 01-15531 Filed 6-19-01; 8:45 am]

BILLING CODE 3410-15-P